DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Hale (FEMA Docket No.: B-2148). | Town of Moundville (20-04-3557P). | The Honorable Tony Lester, Mayor, Town of Moundville, P.O. Box 98, Moundville, AL 35474. | Maps and Zoning Department, 410 Market Street, Moundville, AL 35474. | Jul. 8, 2021 | 100096
Hale (FEMA Docket No.: B-2148). | Unincorporated areas of Hale County (20-04-3557P). | The Honorable Arthur Crawford, Chairman, Hale County Board of Commissioners P.O. Box 396, Greensboro, AL 36744. | Hale County Engineering and Road Department, 703 Cork Street, Greensboro, AL 36744. | Jul. 8, 2021 | 100094
Arkansas:
Benton (FEMA Docket No.: B-2119). | City of Bentonville (21-06-0361P). | The Honorable Stephanie Orman, Mayor, City of Bentonville, 117 West Central Avenue, Bentonville, AR 72712. | City Hall, 117 West Central Avenue, Bentonville, AR 72712. | Jun. 28, 2021 | 050012
Benton (FEMA Docket No.: B-2119). | Unincorporated areas of Benton County (21-06-0361P). | The Honorable Barry Mooring, Benton County Judge, 215 East Central Avenue, Bentonville, AR 72712. | Benton County Planning Department, 2113 West Walnut Street, Rogers, AR 72756. | Jun. 28, 2021 | 050419
Colorado:
El Paso (FEMA Docket No.: B-2117). | City of Colorado Springs (20-08-0838P). | The Honorable John Suthers, Mayor, City of Colorado Springs, 30 South Nevada Avenue, Suite 601, Colorado Springs, CO 80903. | Pikes Peak Regional Development Center, 2880 International Circle, Colorado Springs, CO 80910. | Jun. 17, 2021 | 080060
Jefferson (FEMA Docket No.: B-2119). | City of Lakewood (20-08-0805P). | The Honorable Adam A. Paul, Mayor, City of Lakewood, 480 South Allison Parkway, Lakewood, CO 80226. | Engineering Department, 480 South Allison Parkway, Lakewood, CO 80226. | Jun. 25, 2021 | 085075
Larimer (FEMA Docket No.: B-2125). | City of Fort Collins (20-08-0643P). | The Honorable Wade Troxell, Mayor, City of Fort Collins, P.O. Box 580, Fort Collins, CO 80522. | Stormwater Utilities Department, 700 Wood Street, Fort Collins, CO 80521. | Jun. 25, 2021 | 080102
Delaware: New Castle (FEMA Docket No.: B-2119). | Unincorporated areas of New Castle County (20-03-1345P). | The Honorable Matthew Meyer, New Castle County Executive, 87 Read's Way, New Castle, DE 19720. | New Castle County Land Use Department, 87 Read's Way, New Castle, DE 19720. | Jun. 17, 2021 | 105085
Florida:
Miami-Dade (FEMA Docket No.: B-2119). | City of Miami (21-04-1237P). | The Honorable Francis X. Suarez, Mayor, City of Miami, 3500 Pan American Drive, Miami, FL 33133. | Building Department, 444 Southwest 2nd Avenue, 4th Floor, Miami, FL 33130. | Jun. 16, 2021 | 120650
Palm Beach (FEMA Docket No.: B-2119). | Unincorporated areas of Palm Beach County (20-04-3494P). | The Honorable David Kerner, Mayor, Palm Beach County Board of Commissioners, 301 North Olive Avenue, Suite 1201, West Palm Beach, FL 33401. | Palm Beach County Building Division, 2300 North Jog Road, West Palm Beach, FL 33411. | Jun. 15, 2021 | 120192
Palm Beach (FEMA Docket No.: B-2119). | Unincorporated areas of Palm Beach County (21-04-0678P). | The Honorable David Kerner, Mayor, Palm Beach County Board of Commissioners, 301 North Olive Avenue, Suite 1201, West Palm Beach, FL 33401. | Palm Beach County Building Division, 2300 North Jog Road, West Palm Beach, FL 33411. | Jun. 16, 2021 | 120192
Pinellas (FEMA Docket No.: B-2117). | City of Clearwater (20-04-6149P). | Mr. William Horne, City of Clearwater Manager, P.O. Box 4748, Clearwater, FL 33756. | Engineering Department, 100 South Myrtle Avenue, Suite 220, Clearwater, FL 33756. | Jun. 17, 2021 | 125096
Pinellas (FEMA Docket No.: B-2125). | City of Treasure Island (21-04-0293P). | Mr. Garry Brumback, Manager, City of Treasure Island, 120 108th Avenue, Treasure Island, FL 33706. | Community Development Department, 120 108th Avenue, Treasure Island, FL 33706. | Jun. 28, 2021 | 125153
Georgia: Columbia (FEMA Docket No.: B-2119). | Unincorporated areas of Columbia County (20-04-3801P). | The Honorable Douglas R. Duncan, Jr., Chairman, Columbia County Board of Commissioners, 630 Ronald Reagan Drive, Building B, Evans, GA 30809. | Columbia County Engineering Services Division, 630 Ronald Reagan Drive, Building A, Evans, GA 30809. | Jun. 17, 2021 | 130059
Maryland: Howard (FEMA Docket No.: B-2130). | Unincorporated areas of Howard County (20-03-1198P). | The Honorable Calvin Ball, Howard County Executive, 3430 Court House Drive, Ellicott City, MD 21043. | Howard County Department of Public Works, Bureau of Environmental Services, 9801 Broken Land Parkway, Columbia, MD 21046. | Jun. 25, 2021 | 240044
Oklahoma: Cleveland (FEMA Docket No.: B-2119). | City of Norman (21-06-0022P). | The Honorable Breea Clark, Mayor, City of Norman, P.O. Box 370, Norman, OK 73070. | Public Works Department, Stormwater Division, 201 West Gray Street, Building A, Norman, OK 73069. | Jun. 25, 2021 | 400046
Pennsylvania:
Armstrong (FEMA Docket No.: B-2119). | Borough of Applewold (20-03-1614P). | The Honorable Faith Shaw, President, Borough of Applewold Council, 351 Franklin Avenue, Kittanning, PA 16201. | Borough Hall, 8 Hickory Street, Kittanning, PA 16201. | Jun. 21, 2021 | 420093
Armstrong (FEMA Docket No.: B-2119). | Borough of Ford City (20-03-1614P). | The Honorable Jeff Cogley, Mayor, Borough of Ford City, P.O. Box 112, Ford City, PA 16226. | Borough Hall, 1000 4th Avenue, Ford City, PA 16226. | Jun. 21, 2021 | 420094
Armstrong (FEMA Docket No.: B-2119). | Borough of Kittanning (20-03-1614P). | The Honorable Scott Kline, Mayor, Borough of Kittanning, 1511 Orr Avenue, Kittanning, PA 16201. | Borough Hall, 300 South McKean Street, Kittanning, PA 16201. | Jun. 21, 2021 | 420096
Armstrong (FEMA Docket No.: B-2119). | Borough of Manorville (20-03-1614P). | The Honorable Greg Meyer, Councilman, Borough of Manorville Council, 900 Water Street, Manorville, PA 16238. | Borough Hall, 600 Center Lane, Manorville, PA 16238. | Jun. 21, 2021 | 420098
Armstrong (FEMA Docket No.: B-2119). | Township of Bethel (20-03-1614P). | The Honorable Steven Dixon, Chairman, Township of Bethel Board of Supervisors, 3218 Ridge Road, Ford City, PA 16226. | Township Hall, 3218 Ridge Road, Ford City, PA 16226. | Jun. 21, 2021 | 421300
Armstrong (FEMA Docket No.: B-2119). | Township of Cadogan (20-03-1614P). | The Honorable David Round, Chairman, Township of Cadogan Board of Supervisors, P.O. Box 309, Cadogan, PA 16212. | Township Hall, 333 1st Avenue, Cadogan, PA 16212. | Jun. 21, 2021 | 421304
Armstrong (FEMA Docket No.: B-2119). | Township of East Franklin (20-03-1614P). | The Honorable Barry Peters, Chairman, Township of East Franklin Board of Supervisors, 739 East Brady Road, Cowansville, PA 16218. | Township Hall, 106 Cherry Orchard Avenue, Kittanning, PA 16201. | Jun. 21, 2021 | 421305
Armstrong (FEMA Docket No.: B-2119). | Township of Manor (20-03-1614P). | The Honorable Donald W. Palmer, Jr., Chairman, Township of Manor Board of Supervisors, P.O. Box 144, McGrann, PA 16236. | Township Hall, 306 Byron Street, McGrann, PA 16236. | Jun. 21, 2021 | 421309
Armstrong (FEMA Docket No.: B-2119). | Township of North Buffalo (20-03-1614P). | The Honorable Michael Valencic, Chairman, Township of North Buffalo Board of Supervisors, 149 McHaddon Road, Kittanning, PA 16201. | Township Hall, 149 McHaddon Road, Kittanning, PA 16201. | Jun. 21, 2021 | 421310
Armstrong (FEMA Docket No.: B-2119). | Township of South Buffalo (20-03-1614P). | The Honorable Joe Charlton, Chairman, Township of South Buffalo Board of Supervisors, 384 Iron Bridge Road, Freeport, PA 16229. | Township Hall, 384 Iron Bridge Road, Freeport, PA 16229. | Jun. 21, 2021 | 421210
Texas:
Bexar (FEMA Docket No.: B-2130). | City of Converse (21-06-0348X). | The Honorable Al Suarez, Mayor, City of Converse, 406 South Seguin, Converse, TX 78109. | City Hall, 406 South Seguin, Converse, TX 78109. | Jun. 21, 2021 | 480038
Bexar (FEMA Docket No.: B-2125). | City of San Antonio (20-06-3342P). | The Honorable Ron Nirenberg, Mayor, City of San Antonio, P.O. Box 839966, San Antonio, TX 78283. | Transportation and Capital Improvements Department, Stormwater Division, 114 West Commerce Street, 7th Floor, San Antonio, TX 78205. | Jun. 28, 2021 | 480045
Bexar (FEMA Docket No.: B-2130). | City of Universal City (21-06-0348X). | The Honorable John Williams, Mayor, City of Universal City, 2150 Universal City Boulevard, Universal City, TX 78148. | Department of Stormwater, 2150 Universal City Boulevard, Universal City, TX 78148. | Jun. 21, 2021 | 480049
Brazoria (FEMA Docket No.: B-2125). | City of Pearland (20-06-2501P). | The Honorable Kevin Cole, Mayor, City of Pearland, 3519 Liberty Drive, Pearland, TX 77581. | Engineering Division, 3519 Liberty Drive, Pearland, TX 77581. | Jun. 28, 2021 | 480077
Burnet (FEMA Docket No.: B-2076). | Unincorporated areas of Burnet County (20-06-3344P). | The Honorable James Oakley, Burnet County Judge, 220 South Pierce Street, Burnet, TX 78611. | Burnet County Development Services Department, 133 East Jackson Street, Burnet, TX 78611. | Apr. 28, 2021 | 481209
Cherokee (FEMA Docket No.: B-2130). | City of Rusk (20-06-2542P). | The Honorable Angela Raiborn, Mayor, City of Rusk, 205 South Main Street, Rusk, TX 75785. | Development Services Department, 205 South Main Street, Rusk, TX 75785. | Jun. 21, 2021 | 480124
Cherokee (FEMA Docket No.: B-2130). | Unincorporated areas of Cherokee County (20-06-2542P). | The Honorable Chris Davis, Cherokee County Judge, 135 South Main Street, 3rd Floor, Rusk, TX 75785. | Cherokee County Emergency Management Department, 135 South Main Street, Rusk, TX 75785. | Jun. 21, 2021 | 480739
El Paso (FEMA Docket No.: B-2119). | City of El Paso (20-06-2846P). | The Honorable Oscar Leeser, Mayor, City of El Paso, 300 North Campbell Street, El Paso, TX 79901. | Flood Mitigation and Land Development Department, 801 Texas Avenue, El Paso, TX 79901. | Jun. 25, 2021 | 480214
Fort Bend (FEMA Docket No.: B-2119). | Unincorporated areas of Fort Bend County (20-06-1722P). | The Honorable K.P. George, Fort Bend County Judge, 301 Jackson Street, 4th Floor, Richmond, TX 77469. | Fort Bend County Engineering Department, 301 Jackson Street, 4th Floor, Richmond, TX 77469. | Jun. 23, 2021 | 480228
Harris (FEMA Docket No.: B-2130). | City of Houston (20-06-2232P). | The Honorable Sylvester Turner, Mayor, City of Houston, P.O. Box 1562, Houston, TX 77251. | Floodplain Management Department, 1002 Washington Avenue, Houston, TX 77002. | Jun. 21, 2021 | 480296
Harris (FEMA Docket No.: B-2125). | City of Houston (20-06-3198P). | The Honorable Sylvester Turner, Mayor, City of Houston, P.O. Box 1562, Houston, TX 77251. | Floodplain Management Department, 1002 Washington Avenue, Houston, TX 77002. | Jun. 28, 2021 | 480296
Harris (FEMA Docket No.: B-2125). | Unincorporated areas of Harris County (19-06-2834P). | The Honorable Lina Hidalgo, Harris County Judge, 1001 Preston Street, Suite 911, Houston, TX 77002. | Harris County Permit Office, 10555 Northwest Freeway, Suite 120, Houston, TX 77002. | Jun. 28, 2021 | 480287
Harris (FEMA Docket No.: B-2125). | Unincorporated areas of Harris County (20-06-3198P). | The Honorable Lina Hidalgo, Harris County Judge, 1001 Preston Street, Suite 911, Houston, TX 77002. | Harris County Permit Office, 10555 Northwest Freeway, Suite 120, Houston, TX 77002. | Jun. 28, 2021 | 480287
Llano (FEMA Docket No.: B-2076). | Unincorporated areas of Llano County (20-06-3344P). | The Honorable Mary S. Cunningham, Llano County Judge, 801 Ford Street, Room 101, Llano, TX 78643. | Llano County Land Development and Emergency Management, 100 West Sandstone Street, Suite 200A, Llano, TX 78643. | Apr. 28, 2021 | 481234
Tarrant (FEMA Docket No.: B-2119). | City of Fort Worth (20-06-3276P). | The Honorable Betsy Price, Mayor, City of Fort Worth, 200 Texas Street, Fort Worth, TX 76102. | Transportation and Public Works Department, Engineering Vault, 200 Texas Street, Fort Worth, TX 76102. | Jun. 21, 2021 | 480596
Tarrant (FEMA Docket No.: B-2119). | Unincorporated areas of Tarrant County (20-06-3276P). | The Honorable B. Glen Whitley, Tarrant County Judge, 100 East Weatherford Street, Fort Worth, TX 76196. | Tarrant County Administration Building, 100 East Weatherford Street, Fort Worth, TX 76196. | Jun. 21, 2021 | 480582
Travis (FEMA Docket No.: B-2119). | City of Manor (20-06-2376P). | Mr. Thomas M. Bolt, City of Manor Manager, 105 East Eggleston Street, Manor, TX 78653. | Department of Development Services, 105 East Eggleston Street, Manor, TX 78653. | Jun. 21, 2021 | 481027
Travis (FEMA Docket No.: B-2119). | Unincorporated areas of Travis County (20-06-2376P). | The Honorable Andy Brown, Travis County Judge, 700 Lavaca Street, Suite 2300, Austin, TX 78701. | Travis County Transportation and Natural Resources Department, 700 Lavaca Street, 5th Floor, Austin, TX 78767. | Jun. 21, 2021 | 481026
Virginia:
Albemarle (FEMA Docket No.: B-2125). | Unincorporated areas of Albemarle County (20-03-1533P). | Mr. Jeffrey B. Richardson, Albemarle County Executive, 401 McIntire Road, Charlottesville, VA 22902. | Albemarle County Department of Community Development, 401 McIntire Road, Charlottesville, VA 22902. | Jun. 23, 2021 | 510006
Independent City (FEMA Docket No.: B-2119). | City of Harrisonburg (20-03-1670P). | The Honorable Deanna R. Reed, Mayor, City of Harrisonburg, 409 South Main Street, Harrisonburg, VA 22801. | City Hall, 409 South Main Street, Harrisonburg, VA 22801. | Jun. 25, 2021 | 510076
Prince William (FEMA Docket No.: B-2119). | Unincorporated areas of Prince William County (20-03-1200P). | The Honorable Ann B. Wheeler, Chair-At-Large, Prince William County Board of Supervisors, 1 County Complex Court, Prince William, VA 22192. | Prince William County Department of Public Works, 5 County Complex Court, Prince William, VA 22192. | Jun. 17, 2021 | 510119

[FR Doc. 2021-15116 Filed 7-15-21; 8:45 am]

BILLING CODE 9110-12-P